DEPARTMENT OF COMMERCE

National Institute of Standards and Technology

Visiting Committee on Advanced Technology

AGENCY: National Institute of Standards and Technology, Department of Commerce.

ACTION: Notice of public meeting.

SUMMARY: Pursuant to the Federal Advisory Committee Act, 5 U.S.C. app. 2, notice is hereby given that the Visiting Committee on Advanced Technology (VCAT), National Institute of Standards and Technology (NIST), will meet Tuesday, December 13, 2005, from 8:30 a.m. to 3:50 p.m. and Wednesday, December 14, 2005 from 10:30 a.m. to 12:30 p.m. The Visiting Committee on Advanced Technology is composed of fifteen members appointed by the Director of NIST who are eminent in such fields as business, research, new product development, engineering, labor, education, management consulting, environment, and international relations.

The purpose of this meeting is to review and make recommendations regarding general policy for the Institute, its organization, its budget, and its programs within the framework of applicable national policies as set forth by the President and the Congress. The agenda will include an update on NIST's activities, a presentation on NIST's Strategic Planning and Priority-Setting Process, an Overview of the Strategic Planning Process in selected laboratories, a report on a Vision for the NIST U.S. Measurement System Project, a VCAT Panel on Best Practices for Strategic Planning, and three laboratory tours. The agenda may change to accommodate Committee business. The final agenda will be posted on the NIST Web site.

DATES: The meeting will convene on December 13 at 8:30 a.m. and will adjourn on December 14, 2005 at 12:30 p.m.

ADDRESSES: The meeting will be held in the Radio Building, Room 1107, at NIST, Boulder, Colorado. All visitors to the NIST site will have to pre-register to be admitted. Please submit your name, time of arrival, e-mail address and phone number to Carolyn Peters no later than Thursday, December 8, and she will provide you with instructions for admittance. Mrs. Peter's e-mail address is carolyn.peters@nist.gov and her phone number is (301) 975-5607.

FOR FURTHER INFORMATION CONTACT: Carolyn Peters, Visiting Committee on Advanced Technology, National Institute of Standards and Technology, Gaithersburg, Maryland 20899-1000, telephone number (301) 975-5607.

Dated: November 17, 2005.
William Jeffrey,
Director.

[FR Doc. 05-23143 Filed 11-22-05; 8:45 am]

BILLING CODE 3510-13-P